FEDERAL COMMUNICATIONS COMMISSION

Notice of Public Information Collection(s) Being Reviewed by the Federal Communications Commission

March 6, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 14, 2003. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0395.

Title: The ARMIS USOA Report (ARMIS Report 43-02); the ARMIS Service Quality Report (ARMIS Report 43-05); and the ARMIS Infrastructure Report (ARMIS Report 43-07).

Report Nos: FCC Reports 43-02, 43-05 and 43-07.

Type of Review: Revision of a currently approved collection.

Respondents: Business or other for-profit.

Number of Respondents: 49.

Estimated Time Per Response: 5.7-844 hours.

Frequency of Response: Annual reporting requirements and recordkeeping requirement.

Total Annual Burden: 23,677 hours.

Total Annual Cost: N/A.

Needs and Uses: The USOA Report proves the annual results of the carriers' activities for each account of the Uniform System of Accounts. The Service Quality Report provides service quality information in the areas of interexchange access service, installation and repair intervals, local service installation and repair intervals, trunk blockage, and total switch downtime for price cap carriers. The Infrastructure Report provides switch deployment and capabilities data. For the FCC Report 43-02 the Commission extended the effective date of the changes to the Part 32 chart of accounts to January 1, 2003 and thus the revision to ARMIS 43-02 shall be effective with the April 1, 2004 filings. There were no changes to ARMIS 43-05. ARMIS 43-07 the Commission proposed to eliminate the collection of outdated information and to collect information on newer technologies on Table I. As a result of the Phase 2 Report and Order, the Commission eliminated eight rows related to electromechanical switches; 12 rows related to analog and digital stored-program control; eight rows related to equal access and touch tone; and 17 rows related to Signaling System 7 and integrated services digital network. Among other eliminated reporting requirements, the Commission proposed and eliminated Tables III and IV because Table III information is no longer significant and Table IV information is available in other ARMIS reports or can be generated by reference to other ARMIS reports.

OMB Control No.: 3060-0496.

Title: The ARMIS Operating Data Report.

Report No: FCC Report 43-08.

Type of Review: Revision of a currently approved collection.

Respondents: Business or other for-profit.

Number of Respondents: 53.

Estimated Time Per Response: 139 hours.

Frequency of Response: Annual reporting requirement.

Total Annual Burden: 7,367 hours.

Total Annual Cost: N/A.

Needs and Uses: The Operating Data Report collects annual statistical data in a consistent format that is essential for the Commission to monitor network growth, usage, and reliability. The Commission proposed to eliminate the reporting requirements in Table I-A. Pending further exploration of alternative means of gathering information, the Commission only eliminated columns J, K, L and M because little, if any, data are reported for these categories. The Commission proposed to eliminate columns be, bj, and bm of Table 1-B due to changes in technology. For Table II, the Commission proposed to eliminate the distinction between analog and digital by eliminating columns cf, cg, and ch. Finally, the Commission proposed to make extensive structural changes to Table III to remove data no longer required, and to reflect current access line category structure. Further, we are correcting the number of carriers filing this ARMIS report.

OMB Control No.: 3060-0511.

Title: The ARMIS Access Report.

Report No: FCC Report 43-04.

Type of Review: Revision of a currently approved collection.

Respondents: Business or other for-profit.

Number of Respondents: 84.

Estimated Time Per Response: 157 hours.

Frequency of Response: Annual reporting requirement.

Total Annual Burden: 13,188 hours.

Total Annual Cost: N/A.

Needs and Uses: The ARMIS Access Report is needed to administer the Commission's accounting, jurisdictional separations and access charge rule; to analyze revenue requirements and rates of return, and to collect financial data from Tier 1 incumbent local exchange carriers. This information collection has been revised to eliminate the obligation of mid-sized carriers to file the ARMIS 43-04 report on April 1, 2002. That change was approved in a previous OMB filing. The Commission is re-estimating the number of carriers filing this ARMIS report from 121 to 84 respondents given that a number of study areas have been sold or dissolved over the years.

OMB Control No.: 3060-0512.

Title: The ARMIS Annual Summary Report.

Report No: FCC Report 43-01.

Type of Review: Revision of a currently approved collection.

Respondents: Business or other for-profit.

Number of Respondents: 115.

Estimated Time Per Response: 93 hours.

Frequency of Response: Annual reporting requirement.

Total Annual Burden: 10,695 hours.

Total Annual Cost: N/A.

Needs and Uses: The Annual Summary Report contains financial and operating data and is used to monitor the incumbent local exchange carrier industry and to perform routine analyses of costs and revenues on behalf of the Commission. The Commission eliminated the distinction between “SNFA and Intra-co Adjustments” and “Other Adjustments” and combining these columns into one column entitled “Adjustments”. The Commission also proposed eliminating the requirement to file Table II. Because the elimination of Table II was not feasible due to other streamlining adopted for the mid-sized carriers, the Commission did not adopt the elimination of Table II but eliminated the Common Line Minutes of Use (rows 2010, 2020, 2030 and 2040). In addition, the Commission also provided the accounts and data that are necessary and must be maintained and reported in ARMIS to calculate just and reasonable pole, duct, conduit, and right-of-way attachment rates pursuant to Section 224 of the Communications Act. Table III is the Pole and Conduit Rental Calculation table for Class A carriers. Further, we are correcting the number of carriers filing this ARMIS report from 121 and 115 given that a number of study areas have been sold or dissolved over the years.

OMB Control No.: 3060-0513.

Title: The ARMIS Joint Cost Report.

Report No: FCC Report 43-03.

Type of Review: Revision of a currently approved collection.

Respondents: Business or other for-profit.

Number of Respondents: 85.

Estimated Time Per Response: 76 hours.

Frequency of Response: Annual reporting requirement.

Total Annual Burden: 6,460 hours.

Total Annual Cost: N/A.

Needs and Uses: The Joint Cost Report is needed to administer our joint cost rules (Part 64) and to analyze data in order to prevent cross-subsidization of nonregulated operations by the regulated operations of Tier 1 carriers. The Commission proposed to reduce the number of columns currently reported by eliminating the distinction between “SNFA and Intra-co Adjustments” and “Other Adjustments” and combining these columns into one column. The Commission approved the proposal to combine the two columns based on its determination that it does not appear to be a significant regulatory need to retain the “SNFA and Intra-co Adjustment” columns. Further, we are correcting the number of carriers filing this ARMIS report from 121 to 85 given that a number of study areas have been sold or dissolved over the years.

OMB Control No.: 3060-0763.

Title: The ARMIS Customer Satisfaction Report.

Report No: FCC Report 43-06.

Type of Review: Revision of a currently approved collection.

Respondents: Business or other for-profit.

Number of Respondents: 7.

Estimated Time Per Response: 720 hours.

Frequency of Response: Annual reporting requirement.

Total Annual Burden: 5,040 hours.

Total Annual Cost: N/A.

Needs and Uses: The Customer Satisfaction Report reflects the results of customer satisfaction based on surveys conducted by individual carriers from their customers. The Commission is re-estimating the number of carriers filing this report. No other changes have been made. The information contained in this report provides the necessary detail to enable the Commission to fulfill its regulatory responsibilities.

Federal Communications Commission.
Marlene H. Dortch,
Secretary.

[FR Doc. 03-6143 Filed 3-13-03; 8:45 am]

BILLING CODE 6712-01-P